NATIONAL AERONAUTICS AND SPACE ADMINISTRATION

[18-073]

Notice of Availability of the Record of Decision for NASA Groundwater Cleanup Activities at Santa Susana Field Laboratory

AGENCY: National Aeronautics and Space Administration (NASA).

ACTION: Notice of availability of the Record of Decision (ROD).

SUMMARY: NASA has prepared a Record of Decision (ROD) for groundwater cleanup activities detailed in the Final Environmental Impact Statement for Proposed Demolition and Environmental Cleanup Activities at Santa Susana Field Laboratory, Ventura County, California. The Santa Susana Field Laboratory (SSFL) Groundwater ROD can be found at https://ssfl.msfc.nasa.gov.

FOR FURTHER INFORMATION CONTACT: Peter Zorba, SSFL Project Director, by email at msfc-ssfl-eis@mail.nasa.gov. Additional information about NASA's SSFL site, the proposed demolition and cleanup activities, and the associated planning process and documentation (as available) may be found on the internet at https://ssfl.msfc.nasa.gov or on the California Department of Toxic Substances Control (DTSC) website at https://www.dtsc.ca.gov/SiteCleanup/Santa_Susana_Field_Lab/.

SUPPLEMENTARY INFORMATION:

SSFL Site Background

The SSFL site is 2,850 acres located in Ventura County, California, approximately 7 miles northwest of Canoga Park and approximately 30 miles northwest of downtown Los Angeles. SSFL is composed of four areas known as Areas I, II, III, and IV and two unnumbered areas known as the “undeveloped land.” NASA administers 41.7 acres within Area I and all 409.5 acres of Area II. The Boeing Company (Boeing) manages the remaining 2,398.8 acres within Areas I, III, IV, and the two undeveloped areas.

Since the mid-1950s, when SSFL was administered by the U.S. Air Force, this site has been used for developing and testing rocket engines. All NASA rocket and component testing was completed in 2006. Four test stand complexes were constructed in Area II between 1954 and 1957 named Alfa, Bravo, Coca, and Delta. These test stand areas along with the Liquid Oxygen (LOX) Plant portion of Area I were acquired by NASA from the U.S. Air Force in the 1970s.

Previous environmental sampling on the NASA-administered property indicates that contaminants are present in groundwater beneath the site. NASA's proposed cleanup actions are summarized in the Groundwater Cleanup ROD.

Environmental Commitments and Associated Environmental Review

Rocket engine testing has been discontinued at these sites and the property has been excessed to the General Services Administration (GSA). GSA has conditionally accepted the Report of Excess pending certain environmental cleanup requirements are met.

In 2007, a Consent Order among NASA, Boeing, the U.S. Department of Energy, and DTSC was signed addressing demolition of certain infrastructure and environmental cleanup of SSFL. NASA entered into an Administrative Order on Consent (AOC) for Remedial Action with DTSC on December 6, 2010, “to further define and make more specific NASA's obligations with respect to the cleanup of soils at the Site.” Based on the 2010 Order, NASA is required to complete a federal environmental review pursuant to the National Environmental Policy Act and NASA Procedural Requirement (NPR) 8580.1.

NASA published a Final Environmental Impact Statement for demolition of site infrastructure, soil cleanup pursuant to the AOC, and groundwater remediation within Area II and a portion of Area I (former LOX Plant) of SSFL on March 14, 2014 (79 Federal Register 14545). NASA subsequently issued a ROD for building demolition on April 23, 2014. The Associate Administrator for Mission Support Directorate signed the Groundwater Cleanup ROD on October 4, 2018, which constitutes the final decision by NASA for groundwater cleanup at SSFL.

Cheryl E. Parker,
Federal Register Liaison Officer.

[FR Doc. 2018-22660 Filed 10-16-18; 8:45 am]

BILLING CODE 7510-13-P